DEPARTMENT OF THE INTERIOR

National Park Service

Notice of Inventory Completion of Native American Human Remains and Associated Funerary Objects in the control of the Robert S. Peabody Museum of Archaeology, Andover, MA.

AGENCY: National Park Service, Interior.

ACTION: Notice.

Notice is hereby given in accordance with provisions of the Native American Graves Protection and Repatriation Act (NAGPRA), 43 CFR 10.9, of the completion of inventory of human remains and associated funerary objects in the control of the Robert S. Peabody Museum of Archaeology, Andover, MA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by the Robert S. Peabody Museum of Archaeology professional staff in consultation with representatives of the Narragansett Indian Tribe of Rhode Island, the Mashantucket Pequot Tribe of Connecticut, and the Mohegan Indian Tribe of Connecticut.

In 1921, human remains representing one individual were recovered from the Niantic Shellheap Site in East Lyme, CT, by Warren King Moorehead under the auspices of the Robert S. Peabody Museum of Archaeology. No known individual was identified. No associated funerary objects are present.

Stylistic attributes of ceramics excavated from the site indicate that the Niantic Shellheap Site was occupied in the Late Woodland-Early Contact period, circa A.D. 1550-1700. Based on cultural continuities, it is likely that the historic Niantic people in the Connecticut area developed out of Late Woodland culture. The population of Niantic people diminished after European contact due to disease and war, and the remaining tribal members joined neighboring tribes in A.D. 1850. Oral tradition and historic documentation indicate that the Niantic people joined the Mohegan Tribe and Narragansett Tribe at that time.

Based on the above-mentioned information, officials of the Robert S. Peabody Museum of Archaeology have determined that, pursuant to 43 CFR 10.2 (d)(1), the human remains listed above represent the physical remains of one individual of Native American ancestry. Officials of the Robert S. Peabody Museum of Archaeology also have determined that, pursuant to 43 CFR 10.2 (e), there is a relationship of shared group identity that can be reasonably traced between these Native American human remains and the Narragansett Indian Tribe of Rhode Island and the Mohegan Indian Tribe of Connecticut.

This notice has been sent to officials of the Narragansett Indian Tribe of Rhode Island, the Mashantucket Pequot Tribe of Connecticut, and the Mohegan Indian Tribe of Connecticut. Representatives of any other Indian tribe that believes itself to be culturally affiliated with these human remains should contact James W. Bradley, Director, Robert S. Peabody Museum of Archaeology, Phillips Academy, Andover, MA 01810, telephone (978) 749-4490, before April 9, 2001. Repatriation of the human remains to the Narragansett Indian Tribe of Rhode Island and the Mohegan Indian Tribe of Connecticut may begin after that date if no additional claimants come forward.

Dated: February 9, 2001.
John Robbins,
Assistant Director, Cultural Resources Stewardship and Partnerships.

[FR Doc. 01-5936 Filed 3-8-01; 8:45 am]

BILLING CODE 4310-70-F